DEPARTMENT OF DEFENSE

Defense Acquisition Regulations System

Waiver for Certain Defense Items Produced in the United Kingdom

AGENCY: Defense Acquisition Regulations System, Department of Defense (DoD).

ACTION: Notice.

SUMMARY: The Under Secretary of Defense (Acquisition, Technology, and Logistics) is waiving the statutory limitation of 10 U.S.C. 2534 for certain defense items produced in the United Kingdom (UK). United States Code, Title 10, section 2534, limits DoD procurement of certain items to sources in the national technology and industrial base. The waiver will permit procurement of enumerated items from sources in the UK, unless otherwise restricted by statute.

DATES: This waiver is effective beginning October 6, 2015 until October 4, 2016.

FOR FURTHER INFORMATION CONTACT: Director, Defense Procurement and Acquisition Policy (DPAP), Contract Policy and International Contracting (CPIC), Room 5E621, 3060 Defense Pentagon, Washington, DC 20301-3060, Attention: Ms. Patricia Foley, OUSD(AT&L), telephone (703) 693-1145.

SUPPLEMENTARY INFORMATION: Subsection (a) of 10 U.S.C. 2534 provides that the Secretary of Defense may procure the items listed in that subsection only if the manufacturer of the item is part of the national technology and industrial base. Subsection (i) of 10 U.S.C. 2534 authorizes the Secretary of Defense to exercise the waiver authority in subsection (d), on the basis of the applicability of paragraph (2) or (3) of that subsection, only if the waiver is made for a particular item listed in subsection (a) and for a particular foreign country. Subsection (d) authorizes a waiver if the Secretary of Defense determines that application of the limitation “would impede the reciprocal procurement of defense items under a memorandum of understanding providing for reciprocal procurement of defense items” and if the Secretary of Defense determines that “that country does not discriminate against defense items produced in the United States to a greater degree than the United States discriminates against defense items produced in that country.” The Secretary of Defense has delegated the waiver authority of 10 U.S.C. 2534(d) to the Under Secretary of Defense (Acquisition, Technology, and Logistics).

DoD has had a Reciprocal Defense Procurement Memorandum of Understanding (MOU) with the UK since 1975, most recently renewed on December 17, 2014.

The Under Secretary of Defense (Acquisition, Technology, and Logistics) finds that the UK does not discriminate against defense items produced in the United States to a greater degree than the United States discriminates against defense items produced in the UK, and also finds that application of the limitation in 10 U.S.C. 2534 against defense items produced in the UK would impede the reciprocal procurement of defense items under the MOU.

Under the authority of 10 U.S.C. 2534, the Under Secretary of Defense (Acquisition, Technology, and Logistics) has determined that application of the limitation of 10 U.S.C. 2534(a) to the procurement of any defense item produced in the UK that is listed below would impede the reciprocal procurement of defense items under the MOU with the UK.

On the basis of the foregoing, the Under Secretary of Defense (Acquisition, Technology, and Logistics) is waiving the limitation in 10 U.S.C. 2534(a) for procurements of any defense item listed below that is produced in the UK. This waiver applies to procurements under solicitations issued during the period from October 6, 2015 to October 4, 2016. Similar waivers have been granted since 1998, most recently in 2014 (79 FR 11770, March 3, 2014).

List of Items to Which This Waiver Applies

1. Air circuit breakers.

2. Gyrocompasses.

3. Electronic navigation chart systems.

4. Steering controls.

5. Pumps.

6. Propulsion and machinery control systems.

7. Totally enclosed lifeboats.

Jennifer L. Hawes,
Editor, Defense Acquisition Regulations System.

[FR Doc. 2015-23519 Filed 9-18-15; 8:45 am]

BILLING CODE 5001-06-P